DEPARTMENT OF TRANSPORTATION

Federal Aviation Administration

Pipeline and Hazardous Materials Safety Administration

Office of Hazardous Materials Safety; Notice of Virtual Public Meeting

AGENCY: Federal Aviation Administration (FAA), and Pipeline and Hazardous Materials Safety Administration (PHMSA), DOT.

ACTION: Notice.

SUMMARY: In preparation for the International Civil Aviation Organization's (ICAO) Dangerous Goods Panel (DGP) meeting to be held April 24-April 28, 2017, in Montreal, Canada, the Federal Aviation Administration's (FAA) Office of Hazardous Materials Safety and the Pipeline and Hazardous Materials Safety Administration's (PHMSA) Office of Hazardous Materials Safety announce a virtual public meeting.

DATES: The virtual public meeting will be held on Thursday, April 20, 2017 from 9 a.m. until 12 p.m., Eastern Time.

ADDRESSES: The virtual public meeting will be held via WebEx. Participants are requested to register by using the following email address: 9-AWA-ASH-ADG-HazMat@faa.gov. Please include your name, organization, and email address. WebEx video and telephone conference information will be provided prior to the meeting to those who register.

FOR FURTHER INFORMATION CONTACT: Questions regarding the meeting can be directed to Ms. Janet McLaughlin, Director, Office of Hazardous Materials Safety, ADG-1, Federal Aviation Administration, 800 Independence Avenue SW., Washington, DC 20591; telephone (202) 267-9432, Email: 9-AWA-ASH-ADG-HazMat@faa.gov. Questions in advance of the meeting for PHMSA can be directed to Mr. Kevin Leary, International Standards Specialist, Pipeline and Hazardous Materials Safety Administration, PHH-10, 1200 New Jersey Ave. SE., Washington, DC 20590, telephone (202) 366-8553, Email: kevin.leary@dot.gov.

SUPPLEMENTARY INFORMATION: Information and viewpoints provided by stakeholders are requested as the United States delegation prepares for the International Civil Aviation Organization's Dangerous Goods Panel meeting to be held April 24-April 28, 2017, in Montreal, Canada. Copies of working papers, informal papers, the meeting agenda and report will be made available at the following Web page: http://www.icao.int/safety/DangerousGoods/Pages/WG17.aspx.

Representatives from the FAA and PHMSA will be participating. The virtual meeting is intended to be informal, non-adversarial, and to facilitate the public comment process. No individual will be subject to questioning by any other participant. Government representatives may ask questions to clarify statements. Unless otherwise stated, any statement made during the meetings by a FAA or PHMSA representative should not be construed as an official position of the US government.

The meeting will be open to all persons, subject to the capacity of the WebEx virtual meeting. Every effort will be made to accommodate all persons wishing to attend. The FAA and PHMSA will try to accommodate all speakers, subject to time constraints.

Issued in Washington, DC, on April 10, 2017.
Angela H. Stubblefield,
Deputy Associate Administrator for Security and Hazardous Materials Safety, FAA.
William Schoonover,
Associate Administrator for Hazardous Materials Safety, PHMSA.

[FR Doc. 2017-07577 Filed 4-13-17; 8:45 am]

BILLING CODE 4910-13-P